DEPARTMENT OF ENERGY

Federal Energy Regulatory Commission

Combined Notice of Filings #2

Take notice that the Commission received the following exempt wholesale generator filings:

Docket Numbers: EG11-80-000.

Applicants: Bayonne Energy Center, LLC.

Description: Amendment to Notice of Self-Certification of Exempt Wholesale Generator Status of Bayonne Energy Center, LLC, Docket No. EG11-80.

Filed Date: 05/11/2011.

Accession Number: 20110511-5126.

Comment Date: 5 p.m. Eastern Time on Friday, July 01, 2011.

Take notice that the Commission received the following electric rate filings:

Docket Numbers: ER10-2670-002; ER10-2669-002; ER10-2671-002; ER10-2673-002; ER10-2253-002; ER10-3319-003; ER10-2674-002; ER10-2627-002; ER10-2629-002; ER10-1546-003; ER10-1547-002; ER10-2675-002; ER10-2676-002; ER10-2636-002; ER10-1975-003; ER10-1974-003; ER11-2424-005; ER10-2677-002; ER10-1550-003; ER10-1551-002; ER10-2638-002.

Applicants: Hopewell Cogeneration Ltd Partnership, MT. Tom Generating Company LLC, Calumet Energy Team, LLC, Pleasants Energy, LLC, Waterbury Generation LLC, Syracuse Energy Corporation, GDF SUEZ Energy Marketing NA, Inc., FirstLight Power Resources Management, L, ANP Bellingham Energy Company, LLC, ANP Blackstone Energy Company, LLC, ANP Funding I, LLC, Armstrong Energy Limited Partnership, L., IPA Trading, Inc., Astoria Energy II LLC, Pinetree Power-Tamworth, Inc., Astoria Energy, LLC, Milford Power Limited Partnership, Northeast Energy Associates, A Limited P, FirstLight Hydro Generating Corporation, North Jersey Energy Associates, Northeast Power Company, Northeastern Power Company.

Description: Northeast Triennial Filing of the GDF SUEZ Northeast MBR Sellers.

Filed Date: 06/24/2011.

Accession Number: 20110624-5060.

Comment Date: 5 p.m. Eastern Time on Tuesday, August 23, 2011.

Docket Numbers: ER11-3872-001.

Applicants: Stony Creek Energy LLC.

Description: Stony Creek Energy LLC submits tariff filing per 35.17(b): Supplement to Market-Based Rate Application to be effective 8/23/2011.

Filed Date: 06/24/2011.

Accession Number: 20110624-5014.

Comment Date: 5 p.m. Eastern Time on Friday, July 15, 2011.

Docket Numbers: ER11-3876-000.

Applicants: Cordova Energy Company LLC.

Description: Cordova Energy Company LLC submits tariff filing per 35.1: Cordova Energy Company LLC MBR Tariff Baseline Filing to be effective 6/24/2011.

Filed Date: 06/24/2011.

Accession Number: 20110624-5027.

Comment Date: 5 p.m. Eastern Time on Friday, July 15, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: June 24, 2011.
Nathaniel J. Davis, Sr.,
Deputy Secretary.

[FR Doc. 2011-16694 Filed 7-1-11; 8:45 am]

BILLING CODE 6717-01-P